DEPARTMENT OF THE INTERIOR

Bureau of Land Management

Notice of Availability of Coeur d'Alene Field Office, Idaho, Draft Resource Management Plan and Draft Environmental Impact Statement

AGENCY: Bureau of Land Management, Interior.

ACTION: Notice of availability.

SUMMARY: In accordance with the National Environmental Policy Act of 1969 and the Federal Land Policy and Management Act of 1976, the Bureau of Land Management (BLM) has prepared a Draft Resource Management Plan/Environmental Impact Statement (RMP/EIS) for the Coeur d'Alene Field Office.

DATES: To assure that they will be considered, BLM must receive written comments on the Draft RMP/EIS within 90 days following the date the Environmental Protection Agency publishes the Notice of Availability in the Federal Register. The BLM will announce future meetings or hearings and any other public involvement activities through public notices, news media released, and/or mailings, and on the BLM Web site (http://www.blm.gov/rmp/id/cda/).

ADDRESSES: You may submit comments by any of the following methods:

• E-mail: ID_CDA_RMP@blm.gov.

• Mail: BLM Coeur d'Alene Field Office, ATTN: RMP, 1808 North Third Street, Coeur d'Alene, ID 83814-3407.

• Fax: (208) 769-5050.

Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: Scott Pavey at the Coeur d'Alene Field Office (see above address), telephone (208) 769-5059.

SUPPLEMENTARY INFORMATION: A copy of the Draft RMP/EIS is available for review via the Internet Web site at http://www.blm.gov/rmp/id/cda/. You may also obtain a copy on CD-ROM, or paper copy at the BLM Coeur d'Alene Field Office at the address listed above, or by contacting Scott Pavey at (208) 769-5059.

The planning area covers approximately 96,770 acres of public lands within the following Idaho Counties: Benewah, Bonner, Boundary, Kootenai, and Shoshone. The RMP will provide future broad-scale management direction for use and protection of resources managed by the Coeur d'Alene Field Office. The Draft RMP/EIS was developed through a collaborative planning process and considers four alternatives. The primary issues addressed include: recreational travel management, management of forest products and protection of other resources, adjustments to Federal land ownership, invasive plants, protection of property from wildfire, and protection and restoration of watersheds and riparian areas.

The preferred alternative proposes designation of five areas of critical environmental concern (ACECs), four of which would become Research Natural Areas (RNAs): Hideaway Islands RNA—76 acres (existing); Lund Creek RNA—3,206 acres (2,905 acres existing); Farnham Forest RNA—33 acres; Windy Bay RNA—16 acres; and Pulaski Tunnel ACEC—27 acres. The preferred alternative specifies a no surface occupancy stipulation on future mineral leases within all ACECs/RNAs. Additionally, BLM would recommend Pulaski Tunnel ACEC for withdrawal from the mining laws. All of the RNAs would be designated as right-of-way exclusion areas and would have restrictions for vegetation treatments and timber harvests. The Farnham Forest RNA would be closed to motorized vehicles. Motorized use in all other areas would be limited to designated roads and trails.

Sixteen other ACECs were considered under other alternatives, but were not included in the preferred alternative: Constitution Mine and Millsite ACEC—6 acres; Gamlin Lake ACEC—59 acres; Hecla-Star Tailings Piles ACEC—22 acres; Killarney Lake ACEC—69 acres; Kootenai River Front ACEC—533 acres; Liberal King Millsite ACEC—2 acres; Little North Fork Clearwater River ACEC—9,592 acres; Morton Slough ACEC—119 acres; Mother Load Mine ACEC—0.8 acres; Nabob Millsite ACEC—8 acres; Rex Millsite Tailings Pile ACEC—6 acres; Rochat Divide ACEC—11,653 acres; Sidney Mine and Millsite ACEC—6 acres; Wallace Landfill ACEC—0.3 acres; We-Like Mine ACEC—0.3 acres; Wolf Lodge Bay ACEC—1,094 acres. Restrictions on use of public lands within these areas would vary, depending on the alternative and the values identified for protection, but would include limitations on mining, off-highway vehicle use, and vegetation treatments.

The preferred alternative also recommends four suitable segments of river for inclusion in the National Wild and Scenic River system: Little North Fork Clearwater River—2.5 miles wild classification and 1.1 miles recreation classification; Lost Lake Creek—3.0 miles wild classification and 0.3 miles scenic classification; Little Lost Lake Creek—3.0 miles wild classification; and Lund Creek—3.9 miles wild classification. A segment of the Kootenai River (14 miles) was found eligible, but under the preferred alternative, suitability determination would be deferred until the Idaho Panhandle National Forest (the primary land owner along this segment) makes a suitability determination on adjacent segments.

Dated: November 16, 2005.
Eric R. Thomson,
Coeur d'Alene Field Office Manager.

[FR Doc. 06-286 Filed 1-12-06; 8:45 am]

BILLING CODE 4310-GG-P